INTERNATIONAL TRADE COMMISSION

[Investigation No. 731-TA-894 (Final)]

Certain Ammonium Nitrate From Ukraine

Determination

On the basis of the record ¹ developed in the subject investigation, the United States International Trade Commission determines, pursuant to section 735(b) of the Tariff Act of 1930 (19 U.S.C. 1673d(b)) (the Act), that an industry in the United States is materially injured by reason of imports of certain ammonium nitrate from Ukraine, provided for in subheading 3102.30.00 of the Harmonized Tariff Schedule of the United States, that have been found by the Department of Commerce to be sold in the United States at less than fair value (LTFV). The Commission further determines that critical circumstances do not exist with regard to those imports of the subject merchandise from Ukraine that were subject to the affirmative critical circumstances determination by the Department of Commerce.

¹ The record is defined in sec. 207.2(f) of the Commission's Rules of Practice and Procedure (19 CFR 207.2(f)).

Background

The Commission instituted this investigation on October 13, 2000, following receipt of a petition filed with the Commission and the Department of Commerce by counsel for the ad hoc Committee for Fair Ammonium Nitrate Trade (“COFANT”), including Air Products & Chemicals, Inc., Allentown, PA; El Dorado Chemical Co., Oklahoma City, OK; LaRoche Industries, Inc., Atlanta, GA; Mississippi Chemical Corp., Yazoo City, MS; and Nitram, Inc., Tampa, FL. The final phase of the investigation was scheduled by the Commission following notification of a preliminary determination by the Department of Commerce that imports of certain ammonium nitrate from Ukraine were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of March 14, 2001 (66 FR 14933). The hearing was held in Washington, DC on July 24, 2001, and all persons who requested the opportunity were permitted to appear in person or by counsel.

The Commission transmitted its determinations in this investigation to the Secretary of Commerce on August 31, 2001. The views of the Commission are contained in USITC Publication 3448, August 2001, entitled Certain Ammonium Nitrate from Ukraine (Investigation No. 731-TA-894 (Final)).

Issued: August 29, 2001.
By order of the Commission.
Donna R. Koehnke,
Secretary.

[FR Doc. 01-22196 Filed 9-4-01; 8:45 am]

BILLING CODE 7020-02-P